DEPARTMENT OF THE INTERIOR

National Park Service

[NPS-WASO-NRNHL-DTS#-35068; PPWOCRADI0, PCU00RP14.R50000]

National Register of Historic Places; Notification of Pending Nominations and Related Actions

AGENCY: National Park Service, Interior.

ACTION: Notice.

SUMMARY: The National Park Service is soliciting electronic comments on the significance of properties nominated before December 17, 2022, for listing or related actions in the National Register of Historic Places.

DATES: Comments should be submitted electronically by January 13, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before December 17, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

KEY: State, County, Property Name, Multiple Name (if applicable), Address/Boundary, City, Vicinity, Reference Number.

ARIZONA

Maricopa County

Knorpp, Walter Wesley, House, 77 East Country Club Dr., Phoenix, SG100008580

Scottsdale North, 5600-5682 North Scottsdale Rd., Scottsdale, SG100008581

ARKANSAS

Columbia County

Greene-Talbot-Talley Halls Historic District, South of North Washington and East Lane Dr. intersection, Magnolia, SG100008558

Dallas County

Gulf Oil Filling Station, (Arkansas Highway History and Architecture MPS), 211 West 4th St., Fordyce, MP100008559

Hot Spring County

Garrett's Grocery Store, (Arkansas Highway History and Architecture MPS), 2450 US 67, Friendship, MP100008561

Johnson County

Cabin Creek Bridge, Red Oak Rd. over Cabin Cr., Lamar vicinity, SG100008562

Lonoke County

Standard Oil Company of Louisiana Oil Depot, (Truscon Buildings in Arkansas, c.1915-1937 MPS), Northwest corner of AR 9 and Mill St., Lonoke, MP100008563

Marion County

Flippin City Jail, Southwest corner of Park and South 2nd Sts., Flippin, SG100008565

Pulaski County

Bragg, Richard, House, 305 East 16th St., Little Rock, SG100008566

Laman Plaza Gazebo, (Arkansas Designs of E. Fay Jones MPS), 2700 Willow St., North Little Rock, MP100008567

Van Buren County

South Side High School Sign, 334 Southside Rd., Bee Branch vicinity, SG100008573

Washington County

Anderson, John and Elisabeth, House, 1611 West Halsell Rd., Fayetteville, SG100008569

Weathers House, 1602 Delaware Pl., Springdale, SG100008570

CALIFORNIA

Humboldt County

Kleiser, James, House, 1022 10th St., Arcata, SG100008586

CONNECTICUT

Middlesex County

YMCA of Northern Middlesex County, 99 Union St., Middletown, SG100008583

MISSOURI

Hickory County

Gerber, Christian and Rosina, Farmstead, 15753 Cty. Rd. 202, Weaubleau vicinity, SG100008571

St. Louis County

Park, George M., House, 440 South Price Rd., Ladue, SG100008572

NEW MEXICO

Taos County

Peñasco High School, 15086 NM 75, Peñasco, SG100008588

NEW YORK

Columbia County

Ichabod Crane Schoolhouse, 2589 NY 9H, Kinderhook vicinity, SG100008574

Harder Knitting Mill, (Hudson MRA), 549 Washington St., Hudson, MP100008575

Suffolk County

Van Scoy Burying Ground, (Cemeteries of the Town of East Hampton MPS), Northwest Rd., Northwest Harbor, MP100008577

SOUTH CAROLINA

Charleston County

Peachtree Plantation, Address Restricted, McClellanville vicinity, SG100008587

TENNESSEE

Henry County

Quinn Chapel A.M.E. Church, (Rural African-American Churches in Tennessee MPS), 216 Church St., Paris, MP100008579

TEXAS

Taylor County

Travis Elementary School and Cafetorium, (Abilene MPS), 1101 South 9th St., Abilene, MP100008557

Wichita County

Indiana Avenue Historic District, 900-1008 Indiana Ave., Wichita Falls, SG100008585

A request for removal has been made for the following resource:

ARKANSAS

Pulaski County

Womack House, (Historically Black Properties in Little Rock's Dunbar School Neighborhood MPS), 1867 South Ringo St., Little Rock, OT99000546

A request to move has been received for the following resources:

ARKANSAS

Crawford County

Mulberry River Bridge, (Historic Bridges of Arkansas MPS), Cty Rd. 67, Pleasant Hill vicinity, MV06001272

VIRGINIA

Hanover County

Little River UDC Jefferson Davis Highway Marker (UDC Commemorative Highway Markers along the Jefferson Davis Highway in Virginia MPS), 15400 Washington Hwy., Doswell vicinity, MV100002355

Additional documentation has been received for the following resources:

ARIZONA

Maricopa County

Westwood Village and Estates Historic District (Additional Documentation), (Residential Subdivisions and Architecture in Central Phoenix, 1870-1963, MPS), 2107 West Catalina Dr.; 2112 West Pinchot, 2211 Wrest Whitton, and 2230 West Indianola Aves., Phoenix, AD100007166

SOUTH CAROLINA

Kershaw County

Camden Battlefield (Additional Documentation, 1606 Flat Rock Rd,Camden vicinity, AD66000707

Authority: Section 60.13 of 36 CFR part 60

Dated: December 21, 2022.
Lisa Davidson,
Program Manager,National Register of Historic Places/National Historic Landmarks Program.

[FR Doc. 2022-28326 Filed 12-28-22; 8:45 am]

BILLING CODE 4312-52-P